DEPARTMENT OF TRANSPORTATION

Federal Motor Carrier Safety Administration

[Docket No. FMCSA-2007-28043]

Hours of Service (HOS) of Drivers; Revision of Exemption; American Pyrotechnics Association (APA)

AGENCY: Federal Motor Carrier Safety Administration (FMCSA), DOT.

ACTION: Notice of revised regulatory exemption.

SUMMARY: The FMCSA announces a revision to the list of member motor carriers of the American Pyrotechnics Association (APA) that were granted an exemption from FMCSA's prohibition on driving commercial motor vehicles (CMVs) after the 14th hour after the driver comes on duty, during the periods of June 28-July 8, inclusive, in 2011 and 2012. The exemption covered renewal of 53 APA-member motor carriers and added 9 new APA-member carriers. It allowed drivers of specified carriers who operate CMVs in conjunction with staging fireworks shows celebrating Independence Day to exclude off-duty and sleeper-berth time of any length from the calculation of the 14-hour period. These drivers continue to be subject to the 11-hour driving time limit and the 60- and 70-hour weekly on-duty limits. This revision, requested by APA, removes 14 APA-member carriers that have either gone out of business or no longer require the exemption.

DATES: This revision to the exemption is effective during the period of June 28, 2012, through July 8, 2012, inclusive.

FOR FURTHER INFORMATION CONTACT: Ms. Christine Hydock, FMCSA Driver and Carrier Operations Division, Office of Bus and Truck Standards and Operations, Telephone: 202-366-4325. Email: MCPSD@dot.gov.

SUPPLEMENTARY INFORMATION:

Background

Under 49 U.S.C. 31315 and 31136(e), FMCSA may grant an exemption from the HOS requirements in 49 CFR 395.3(a)(2) for up to 2 years if it finds “such exemption would likely achieve a level of safety that is equivalent to, or greater than, the level that would be achieved absent such exemption” (49 U.S.C. 31315(b)(1)).

The initial APA application for waiver or exemption relief from the 14-hour rule was submitted in 2004; a copy of the application is in the docket. That application fully describes the nature of the pyrotechnic operations of the CMV drivers employed by APA-member motor carriers during a typical Independence Day period. The CMV drivers are trained pyrotechnicians and hold commercial driver's licenses with hazardous materials endorsements. They transport fireworks and related equipment by CMV on a very demanding schedule, often to remote locations. After they arrive, the APA drivers are responsible for set-up and staging of the fireworks shows.

In 2011, FMCSA granted an exemption renewal to 53 APA-member motor carriers and added 9 new APA-member carriers (76 FR 37876 and 76 FR 37880, June 28, 2011) for their Independence Day fireworks displays in 2011 and 2012.

APA is currently requesting removal from the 2012 Independence Day exemption of 14 APA-member companies that have either gone out of business or no longer require the exemption. A list of these companies is included as Appendix A and a revised list of the 48 APA-member companies, still covered by the 2012 exemption is included as Appendix B to this notice.

The HOS rules prohibit a property-carrying CMV driver from driving after the 14th hour after coming on duty following 10 consecutive hours off duty (49 CFR 395.3(a)(2)). During the periods June 28-July 8, 2012, inclusive, the companies named in Appendix B, and CMV drivers employed by them, will be exempt from section 395.3(a)(2) if they are operating in conjunction with the staging of fireworks shows celebrating Independence Day.

The exemption permits CMV drivers engaged in these operations to exclude off-duty and sleeper-berth time of any length from the calculation of the 14-hour on-duty period. These drivers must continue to obtain 10 consecutive hours off duty prior to the 14-hour period, and observe the 11-hour driving time limit, as well as the 60- and 70-hour on-duty limits. The drivers must comply with all other applicable provisions of the Federal Motor Carrier Safety Regulations (49 CFR 390-399). For a full explanation of the terms and conditions of the exemption, see the Federal Register notice published on June 28, 2011 (76 FR 37876-37882).

Issued on: June 21, 2012.
Larry W. Minor,
Associate Administrator for Policy.

Appendix A to the Notice of Revised Regulatory Exemption for the American Pyrotechnics Association (APA)
[Removal of 14 Motor Carriers for a Limited HOS Exemption during the 2012 Independence Day Celebrations]
Motor carrier | Address 1 | Address 2 | DOT No.
1. Arrowhead Fireworks Co., Inc | 3625 Normanna Rd | Duluth, MN 55803 | 125673
2. Atlas Pyrovision Productions, Inc | 136 Old Sharon Rd | Jaffrey, NH 03452 | 789777
3. Fireworks Productions of Arizona, Ltd | 17034 S 54th Street | Chandler, AZ 85226 | 948780
4. Ingram Enterprises dba Fireworks over America | 6597 W Independece Drive | Springfield, MO 65802 | 0268419
5. Island Fireworks Company | N735 825th St | Hager City, WI 54014 | 414583
6. Jake's Fireworks/Fireworks Spectacular | 2311 A West 4th St | Pittsburg, KS 66762 | 449599
7. Johnny Rockets Fireworks Display Co | 4410 N. Hamilton | Chicago, IL 60625 | 1263181
8. Montana Display Inc | 9480 Inspiration Drive | Missoula, MT 59808 | 1030231
9. Rich Brothers Company | 700 S Marion Rd | Sioux Falls, SD 57106 | 001356
10. Wald & Co., Inc | PO Box 319 | Greenwood, MO 64034-0319 | 087079
11. Walt Disney Parks & Resorts, USA Inc | 5700 Maple Road | Lake Buena Vista, FL 32830 | 148477
12. Winco Fireworks Int. LLC | 1992 NW Hwy 50 | Lone Jack, MO | 259688
13. Victory Fireworks Inc | 579 Vincent Lane | Ellsworth, WI 54011 | 539751
14. Young Explosives Corp | P.O. Box 18653 | Rochester, NY | 450304

Appendix B to the Notice of Revised Regulatory Exemption for the American Pyrotechnics Association (APA)
[For a Limited HOS Exemption for 48 Motor Carriers during the 2012 Independence Day Celebrations]
Motor carrier | Address 1 | Address 2 | DOT No.
1. Alonzo Fireworks Display, Inc | 12 County Rd 75 | Mechanicsville, NY 12118 | 420639
2. American Fireworks Company | 7041 Darrow Road | Hudson, OH 44236 | 103972
3. AM Pyrotechnics, LLC | 2429 East 535th Rd | Buffalo, MO 65622 | 1034961
4. Arthur Rozzi Pyrotechnics | 6607 Red Hawk Ct | Maineville, OH 45039 | 2008107
5. Atlas Enterprises Inc | 6601 Nine Mile Azle Rd | Fort Worth, TX 76135 | 0116910
6. B.J. Alan Company | 555 Martin Luther King, Jr Blvd | Youngstown, OH 44502-1102 | 262140
7. Cartwright Fireworks, Inc | 1608 Keely Road | Franklin, PA 16323 | 882283
8. Central States Fireworks, Inc | 18034 Kincaid Street | Athens, IL 62613 | 1022659
9. Colonial Fireworks Company | 5225 Telegraph Road | Toledo, OH 43612 | 177274
10. East Coast Pyrotechnics, Inc | 4652 Catawba River Rd | Catawba, SC 29704 | 545033
11. Entertainment Fireworks, Inc | P.O. Box 7160 | Olympia, WA 98507-7160 | 680942
12. Falcon Fireworks | 3411 Courthouse Road | Guyton, GA 31312 | 1037954
13. Fireworks & Stage FX America | P.O. Box 488 | Lakeside, CA 92040 | 908304
14. Fireworks by Grucci, Inc | 1 Grucci Lane | Brookhaven, NY 11719 | 324490
15. Fireworks Extravaganza | 58 Maple Lane | Otisville, NY 10963 | 2064141
16. Fireworks West Internationale | 3200 West 910 North | Logan, UT 84321 | 245423
17. Garden State Fireworks, Inc | 383 Carlton Road | Millington, NJ 07946 | 435878
18. Gateway Fireworks Displays | P.O. Box 39327 | St Louis, MO 63139 | 1325301
19. Global Pyrotechnics Solutions, Inc | 10476 Sunset Drive | Dittmer, MO 63023 | 1183902
20. Great Lakes Fireworks | 24805 Marine | Eastpointe, MI 48021 | 1011216
21. Hamburg Fireworks Display Inc | 4300 Logan Lancaster Rd | Lancaster, OH | 395079
22. Hi-Tech FX, LLC | 1135 Ave. I | Fort Madison, IA 52627 | 1549055
23. Hollywood Pyrotechnics, Inc | 1567 Antler Point | Eagan, MN 55122 | 1061068
24. J&M Displays, Inc | 18064 170th Ave | Yarmouth, IA 52660 | 377461
25. Kellner's Fireworks Inc | 478 Old Rte 8 | Harrisville, PA | 481553
26. Lantis Productions dba Lantis Fireworks and Lasers | P.O. Box 491 | Draper, UT 84202 | 195428
27. Legion Fireworks Co., Inc | 10 Legion Lane | Wappingers Falls, NY 12590 | 554391
28. Mad Bomber/Planet Productions | P.O. Box 294 | Kingsbury, IN 46345 | 777176
29. North Central Industries, Inc | 1500 E. Washington | Muncie, IN 47305 | 00165755
30. Precocious Pyrotechnics, Inc | 4420-278th Ave NW | Belgrade, MN 56312 | 435931
31. Pyro Engineering Inc., dba/Bay Fireworks | 110 Route 110, Suite 102 | Huntington Station, NY 11746 | 530262
32. Pyro Shows Inc | 701 W. Central Ave | LaFollette, TN 37766 | 456818
33. Pyro Spectacluars, Inc | 3196 N Locust Ave | Rialto, CA 92376 | 029329
34. Pyro Spectaculars North, Inc | 5301 Lang Avenue | McClellan, CA 95652 | 1671438
35. Pyrotechnic Display, Inc | 8450 W. St. Francis Rd | Frankfort, IL 60423 | 1929883
36. Pyrotecnico | 302 Wilson Rd | New Castle, PA 16105 | 526749
37. Pyrotecnico of Louisiana, LLC | 60 West Ct | Mandeville, LA 70471 | 548303
38. Rainbow Fireworks, Inc | 76 Plum Ave | Inman, KS 67546 | 1139643
39. RES Specialty Pyrotechnics | 21595 286th St | Belle Plaine, MN 56011 | 523981
40. Rozzi's Famous Fireworks, Inc | 11605 North Lebanon Rd | Loveland, OH 45140 | 0483686
41. Skyworks, Ltd | 13513 W. Carrier Rd | Carrier, OK 73727 | 1421047
42. Spielbauer Fireworks Co, Inc | 220 Roselawn Blvd | Green Bay, WI 54301 | 046479
43. Stonebraker-Rocky Mountain Fireworks Co | 5650 Lowell Blvd, Unit E | Denver, CO 80221 | 0029845
44. Vermont Fireworks Co., Inc./Northstar Fireworks Co., Inc | 2235 Vermont Route 14 South | East Montpelier, VT 05651 | 310632
45. Western Display Fireworks, Ltd | 10946 S. New Era Rd | Canby, OR 97013 | 498941
46. Western Enterprises, Inc | P.O. Box 160 | Carrier, OK 73727 | 203517
47. Wolverine Fireworks Display, Inc | 205 W Seidlers | Kawkawlin, MI | 376857
48. Zambelli Fireworks MFG, Co., Inc | P.O. Box 1463 | New Castle, PA 16103 | 033167

[FR Doc. 2012-15745 Filed 6-26-12; 8:45 am]

BILLING CODE 4910-EX-P